NATIONAL TRANSPORTATION SAFETY BOARD

Sunshine Act Meeting

TIME AND DATE: 9:30 a.m., Wednesday, May 31, 2000.

PLACE: NTSB Board Room, 429 L'Enfant Plaza, SW., Washington, DC 20594.

STATUS: Open to the Public.

MATTERS TO BE CONSIDERED:

7009A—Marine Accident Report: Ramming of the Eads Bridge by Barges in Tow of the M/V Anne Holly with Subsequent Ramming and near breakaway of the President of the Casino on the Admiral, St. Louis, Missouri, on April 4, 1998.

NEWS MEDIA CONTACT: Telephone: (202) 314-6100.

Individuals requesting specific accommodation should contact Mrs. Barbara Bush at (202) 314-6220 by Friday, May 26, 2000.

FOR MORE INFORMATION CONTACT: Rhonda Underwood (202) 314-6065.

Dated: May 19, 2000.
Rhonda Underwood,
Federal Register Liaison Officer.

[FR Doc. 00-13091 Filed 5-19-00; 2:58 pm]

BILLING CODE 7590-01-M